ARCHITECTURAL AND TRANSPORTATION BARRIERS COMPLIANCE BOARD

36 CFR Part 1192

[Docket No. ATBCB-2013-0001]

RIN 3014-AA42

Rail Vehicles Access Advisory Committee Meetings

AGENCY: Architectural and Transportation Barriers Compliance Board.

ACTION: Notice of advisory committee meeting.

SUMMARY: The Rail Vehicles Access Advisory Committee (Committee) will hold its first meeting. We, the Architectural and Transportation Barriers Compliance Board (Access Board), established the Committee to advise us on revising and updating our accessibility guidelines issued pursuant to the Americans with Disabilities Act for transportation vehicles that operate on fixed guideway systems (e.g., rapid rail, light rail, commuter rail, intercity rail, and high speed rail).

DATES: The Committee will meet on October 15, 2013, from 10 a.m. to 5 p.m. and on October 16, 2013, from 9 a.m. to 3 p.m.

ADDRESSES: The meeting will be held at the Access Board Conference Room, 1331 F Street NW., Suite 800, Washington, DC 20004-1111.

FOR FURTHER INFORMATION CONTACT: Paul Beatty, Office of Technical and Information Services, Access Board, 1331 F Street NW., Suite 1000, Washington, DC 20004-1111. Telephone number (202) 272-0012 (Voice); (202) 272-0072 (TTY). Electronic mail address: rvaac@access-board.gov.

SUPPLEMENTARY INFORMATION: On May 23, 2013, we published a notice establishing a Rail Vehicles Access Advisory Committee (Committee) to make recommendations to us on matters associated with revising and updating our accessibility guidelines issued pursuant to the Americans with Disabilities Act for transportation vehicles that operate on fixed guideway systems (e.g., rapid rail, light rail, commuter rail, intercity rail, and high speed rail). See 78 FR 30828 (May 23, 2013).

The Committee will hold its first meeting on October 15, 2013, from 10 a.m. to 5 p.m. and on October 16, 2013, from 9 a.m. to 3 p.m. The agenda for the meeting includes initial remarks, introduction of Committee members, consideration of the Committee's charter and operating procedures, discussion of administrative issues (including establishment of future meeting dates), and discussion of issues for potential consideration by the Committee. The preliminary meeting agenda, along with information about the Committee, is available on our Web site (http://www.access-board.gov/rvaac).

Committee meetings will be open to the public and interested persons can attend the meetings and communicate their views. Members of the public will have opportunities to address the Committee on issues of interest to them during public comment periods scheduled on each day of the meeting. Members of groups or individuals who are not members of the Committee may also have the opportunity to participate in subcommittees if subcommittees are formed.

The meetings will be accessible to persons with disabilities. An assistive listening system, Communication Access Realtime Translation (CART), and sign language interpreters will be provided. Persons attending the meetings are requested to refrain from using perfume, cologne, and other fragrances for the comfort of other participants (see http://www.access-board.gov/the-board/policies/fragrance-free-environment for more information).

Persons wishing to provide handouts or other written information to the Committee are requested to provide electronic formats to Paul Beatty via email at least two business days prior to the meetings so that alternate formats can be distributed to Committee members.

David M. Capozzi,
Executive Director.

[FR Doc. 2013-23504 Filed 9-25-13; 8:45 am]

BILLING CODE 8150-01-P